ENVIRONMENTAL PROTECTION AGENCY

[EPA-HQ-OECA-2020-0031; FRL-10096-01-OECA]

Proposed Information Collection Request; Comment Request; Proposed Information Collection Request; Comment Request; State Review Framework

AGENCY: Environmental Protection Agency (EPA).

ACTION: Notice.

SUMMARY: The Environmental Protection Agency (EPA) is planning to submit an information collection request (ICR), “Proposed Information Collection Request; Comment Request; State Review Framework” (EPA ICR No. 2185.08, OMB Control No. 2020-0031 to the Office of Management and Budget (OMB) for review and approval in accordance with the Paperwork Reduction Act. Before doing so, EPA is soliciting public comments on specific aspects of the proposed information collection as described below. This is a proposed extension of the ICR, which is currently approved through April 30, 2023. An Agency may not conduct, or sponsor and a person is not required to respond to a collection of information unless it displays a currently valid OMB control number.

DATES: Comments must be submitted on or before November 18, 2022.

ADDRESSES: Submit your comments, referencing Docket ID No. EPA-HQ-OECA-2020-0031, online using www.regulations.gov (our preferred method), or by mail to: EPA Docket Center, Environmental Protection Agency, Mail Code 28221T, 1200 Pennsylvania Ave. NW, Washington, DC 20460 and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Dave Hoffman, Office of Enforcement and Compliance Assurance, Office of Compliance, Environmental Protection Agency, 1200 Pennsylvania Ave. NW, Washington, DC 20460; telephone number: (202) 564-0725; email address: Hoffman.dave@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The State Review Framework is an oversight tool designed to assess state performance in enforcement and compliance assurance. The Framework's goal is to evaluate state performance by examining existing data to provide a consistent level of oversight and develop a uniform mechanism by which EPA Regions, working collaboratively with their states, can ensure state environmental agencies consistently implement the national compliance and enforcement program to meet agreed-upon goals. Furthermore, the Framework is designed to foster dialogue on enforcement and compliance performance between states to enhance relationships and increase feedback, which will in turn lead to consistent program management and improved environmental results. This request will allow OECA to review and collect information from state and local agency enforcement and compliance files, to support the State Review Framework implementation from FY 2024 to FY 2027. It will also allow EPA to make inquiries to assess the State Review Framework process, including consistency achieved among the EPA Regions and states, resources required to conduct reviews, and overall effectiveness of the program.

Form Numbers: None.

Respondents/affected entities: States, localities, and territories.

Respondent's obligation to respond: Required as part of program authorization under the Clean Water, Clean Air, Safe Drinking Water and Resource Conservation and Recovery Acts.

Estimated number of respondents: 213 (total).

Frequency of response: Once every 5 years.

Total estimated burden: 12,993 hours (per year). Burden is defined at 5 CFR 1320.03(b).

Total estimated cost: $546,729 (per year).

Changes in Estimates: There is an increase in total estimated response burden hours from 218 to 305 per respondent due to the addition of the safe drinking water act enforcement review pilot, which wasn't captured in the previous ICR. This pilot isn't formally part of the SRF, but the agency believes this ICR is an appropriate forum to collect input, due to their similarities in workload and purpose. At the conclusion of the pilot, the agency will review the program and if necessary, revise this ICR. In addition, there is an increase in the number of respondents from 54 to 213 due to inclusion of all media (CAA, CWA, RCRA and SDWA) for 50 states and 4 territories, and 14 local air districts. Previous ICR's included a single response for each state/territory, whereas this ICR utilized a different methodology to capture the burden more accurately. The burden estimates for CAA, CWA and RCRA are unchanged.

John Dombrowski,
Director, Office of Compliance.

[FR Doc. 2022-20173 Filed 9-16-22; 8:45 am]

BILLING CODE 6560-50-P